DEPARTMENT OF COMMERCE

National Oceanic and Atmospheric Administration

[I.D. 010507B]

Endangered Species; File No. 1486

AGENCY: National Marine Fisheries Service (NMFS), National Oceanic and Atmospheric Administration (NOAA), Commerce.

ACTION: Notice; receipt of application for modification of permit.

SUMMARY: Notice is hereby given that Harold M. Brundage, Environmental Research and Consulting Inc., PMB #781, 873 East Baltimore Pike, Kennett Square, Pennsylvania 19348, has requested a modification to scientific research Permit No. 1486.

DATES: Written, telefaxed, or e-mail comments must be received on or before February 15, 2007.

ADDRESSES: The modification request and related documents are available for review upon written request or by appointment in the following office(s):

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9300; fax (978)281-9394.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1486.

FOR FURTHER INFORMATION CONTACT: Brandy Hutnak or Malcolm Mohead, (301)713-2289.

SUPPLEMENTARY INFORMATION: The subject modification to Permit No. 1486, issued on December 22, 2004 (69 FR 77998) is requested under the authority of the Endangered Species Act of 1973, as amended (16 U.S.C. 1531 et seq.) and the regulations governing the taking, importing, and exporting of endangered and threatened species (50 CFR 222-226).

Permit No. 1486 authorizes the permit holder to capture, measure, weigh, Floy T-bar tag, PIT tag, fin clip, and release 1750 juvenile and adult shortnose sturgeon in the Lower Delaware River/Estuary. A subset of 30 juvenile and 30 adult shortnose sturgeon may be internally implanted with an ultrasonic tag, in addition to a subset of 24 (juveniles and adults) that may be visually assessed (externally), anesthetized (MS-222), laparoscopically evaluated (coelomic cavity), have blood collected, and a biopsy of the gonads taken (if the sex is unclear). The permit holder now requests authorization to locate and document occurrences of early life stages (eggs and larvae) of shortnose sturgeon in the Delaware River. Specific goals of this additional research are to: (1) document occurrences of shortnose sturgeon eggs and larvae and their specific habitats in the Delaware River; (2) incorporate occurrence information into the Endangered and Nongame Species Program's Biotics database and Riparian Landscape Project database; and (3) identify critical habitat and, if supported by the data collected, pursue critical area designation for shortnose sturgeon spawning and nursery areas. Up to 1,000 eggs and 1,000 larvae would be taken during three consecutive spawning seasons (March - May) over the remainder of the permit, which expires on January 31, 2010. Shortnose sturgeon eggs and larvae would be collected by the following methods: (1) artificial substrates - these will consist of floor buffing pads that are anchored to the river bottom; (2) passive ichthyoplankton nets - these nets will be 0.5 m in diameter and will be set downstream of probable spawning locations on the river bottom for approximately 1-3 hours; (3) epibenthic sled - this sled will be fitted with an ichthyoplankton net and towed in locations suitable for such gear; and (4) pump sampling - water is pumped from the river, via a suction hose, and filtered through a 0.5 mm plankton net.

Dated: January 5, 2007.
Tammy C. Adams,
Acting Chief, Permits, Conservation and Education Division, Office of Protected Resources, National Marine Fisheries Service.

[FR Doc. E7-368 Filed 1-12-07; 8:45 am]

BILLING CODE 3510-22-S